DEPARTMENT OF THE INTERIOR

Fish and Wildlife Service

[FWS-R8-ES-2011-N158; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before September 15, 2011.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-797267

Applicant: H.T. Harvey & Associates, Los Gatos, California

The applicant requests a permit to take (capture, handle, passive integrated transponder [PIT] tag, radio collar, and release) the giant kangaroo rat (Dipodomys ingens) in conjunction with surveys, research, and population monitoring activities in San Luis County, California, for the purpose of enhancing the species' survival.

Permit No. TE-844028

Applicant: A.A. Rich and Associates, San Enselmo, California

The applicant requests an amendment to a permit to take (survey, electrofish, net, capture, and release) the Pahranagat roundtail chub (Gila robusta jordani) in conjunction with surveys and population monitoring activities throughout the range of the species in Lincoln County, Nevada, for the purpose of enhancing the species' survival.

Permit No. TE-221290

Applicant: Lee Ripma, San Diego, California

The applicant requests a permit to take (survey by pursuit) the Quino checkerspot butterfly (Euphydryas editha quino) and take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with survey activities throughout the range of each species in California for the purpose of enhancing the species' survival.

Permit No. TE-815144

Applicant: Rosemary Thompson, Santa Barbara, California

The applicant requests an amendment to a permit to take (capture, handle, release, and collect tail tissue and voucher specimens) the California tiger salamander (Ambystoma californiense) and take (capture, handle, and release) the unarmored threespine stickleback (Gasterosteus aculeatus williamsoni) in conjunction with survey activities and population studies throughout the range of the species for the salamander and within the Santa Clara River Drainage for the stickleback in California for the purpose of enhancing the species' survival.

Permit No. TE-48149A

Applicant: Tammy C. Lim, Oakland, California

The applicant requests a permit to take (survey, capture, handle, mark, take biological samples, transport, relocate, and release) the San Francisco garter snake (Thamnophis sirtalis tetrataenia) in conjunction with survey, research, and habitat enhancement activities throughout the range of the species in California for the purpose of enhancing the species' survival.

Permit No. TE-018909

Applicant: Kelly M. Rios, Brea, California

The applicant requests an amendment to a permit to take (capture, handle, and release) the San Bernardino kangaroo rat (Dipodomys merriami parvus) in conjunction with survey activities throughout the range of the species in California for the purpose of enhancing the species' survival.

Permit No. TE-48170A

Applicant: Lisa Ann Gadsby, Encinitas, California

The applicant requests a permit to take (survey by pursuit) the Quino checkerspot butterfly (Euphydryas editha quino) in conjunction with survey activities throughout the range of the species in California for the purpose of enhancing the species' survival.

Permit No. TE-48210A

Applicant: Becky Rozumowicz, Orangevale, California

The applicant requests a permit to take (survey, capture, handle, and release) the California tiger salamander (Ambystoma californiense) and take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with survey activities throughout the range of each species in California for the purpose of enhancing the species' survival.

Permit No. TE-48214A

Applicant: Tracy K. Bain, San Francisco, California

The applicant requests a permit to take (survey, capture, handle, and release) the California tiger salamander (Ambystoma californiense) in conjunction with surveys and behavioral research activities in Sonoma County, California, for the purpose of enhancing the species' survival.

Permit No. TE-142435

Applicant: Debra M. Shier, Topanga, California

The applicant requests a permit to take (survey, capture, handle, mark, tag, obtain genetic samples, attach radio-telemetry devices, hold in captivity, transport, translocate, and release to the wild) the San Bernardino kangaroo rat (Dipodomys merriami parvus) and the giant kangaroo rat (Dipodomys ingens) in conjunction with survey and research activities throughout the range of each species in California for the purpose of enhancing the species' survival.

Public Comments

We invite public review and comment on each of these recovery permit applications. Comments and materials we receive will be available for public inspection, by appointment, during normal business hours at the address listed in the ADDRESSES section of this notice.

Before including your address, phone number, e-mail address, or other personal identifying information in your comment, you should be aware that your entire comment—including your personal identifying information—may be made publicly available at any time. While you can ask us in your comment to withhold your personal identifying information from public review, we cannot guarantee that we will be able to do so.

Michael Long,
Acting Regional Director, Region 8, Sacramento, California.

[FR Doc. 2011-20818 Filed 8-15-11; 8:45 am]

BILLING CODE 4310-55-P